DEPARTMENT OF HOMELAND SECURITY

National Protection and Programs Directorate

[Docket No. DHS-2010-0018]

Agency Information Collection Activities: United States Visitor and Immigrant Status Indicator Technology (US-VISIT); Biometric Data Collection at the Ports of Entry

AGENCY: National Protection and Programs Directorate, DHS.

ACTION: 60-Day Notice and request for comments; Revision of existing information collection request: 1600-0006.

SUMMARY: The Department of Homeland Security, National Protection and Programs Directorate (NPPD), US-VISIT, has submitted the following Information Collection Request (ICR) to the Office of Management and Budget (OMB) for review and clearance in accordance with the Paperwork Reduction Act of 1995 (Pub. L. 104-13, 44 U.S.C. Chapter 35).

DATES: Comments are encouraged and will be accepted until May 10, 2010. This process is conducted in accordance with 5 CFR 1320.10.

ADDRESSES: Written comments and questions about this Information Collection Request should be forwarded to the NPPD/US-VISIT Program, Attn.: Steven P. Yonkers, Steve.Yonkers@dhs.gov. Written comments should reach the contact person listed no later than May 10, 2010. Comments must be identified by DHS-2010-0018 and may be submitted by one of the following methods:

• Federal eRulemaking Portal: http://www.regulations.gov .

• E-mail: Steve.Yonkers@dhs.gov. Include the docket number in the subject line of the message.

Instructions: All submissions received must include the words “Department of Homeland Security” and the docket number for this action. Comments received will be posted without alteration at http://www.regulations.gov, including any personal information provided.

SUPPLEMENTARY INFORMATION: The United States Visitor and Immigrant Status Indicator Technology (US-VISIT) Program was established by the Department of Homeland Security (DHS) to meet specific legislative mandates intended to strengthen border security, address critical needs in terms of providing decision-makers with critical information, and demonstrate progress toward performance goals for national security, expediting of trade and travel, and supporting immigration system improvements. US-VISIT collects and disseminates biometric information (digital fingerprint images and facial photos) from individuals during their entry into the United States. This information is disseminated to specific DHS components; other Federal agencies; Federal, State and local law enforcement agencies; and the Federal intelligence community to assist in the decisions they make related to, and in support of, the homeland security mission. Beginning on December 10, 2007, US-VISIT expanded the collection of fingerprints from two prints to ten. The new collection time of 35 seconds, an increase from the previous 15 seconds, is a result of this change, and includes officer instructions. Additionally, on December 19, 2008, DHS published a final rule, entitled “United States Visitor and Immigrant Status Indicator Technology Program (US-VISIT); Enrollment of Additional Aliens in US-VISIT; Authority To Collect Biometric Data From Additional Travelers and Expansion to the 50 Most Highly Trafficked Land Border Ports of Entry.” 73 FR 77473. That rule became effective on January 18, 2009, and expanded the population of aliens subject to US-VISIT requirements.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security, NPPD, US-VISIT.

Title: US-VISIT Program.

Form: N/A.

OMB Number: 1600-0006.

Frequency: One-time collection.

Affected Public: Foreign visitors and immigrants into the United States.

Number of Respondents: 156,732,422.

Estimated Time per Respondent: 35 seconds.

Total Burden Hours: 1,520,304 annual burden hours.

Total Burden Cost (capital/startup): $0.

Total Burden Cost (operating/maintaining): $53,211,000.

Signed: March 2, 2010.
Thomas Chase Garwood, III,
Chief Information Officer, National Protection and Programs Directorate, Department of Homeland Security.

[FR Doc. 2010-4905 Filed 3-8-10; 8:45 am]

BILLING CODE 9110-9P-P